DEPARTMENT OF LABOR

Office of Disability Employment Policy

[OMB Number 1230-0NEW]

Notice of Proposed Data Collection

SUMMARY: The U.S. Department of Labor, as part of its continuing effort to reduce paperwork and respondent burden, conducts a pre-clearance consultation process to provide the general public and Federal agencies with an opportunity to comment on proposed and/or continuing collections of information in accordance with the Paperwork Reduction Act of 1995 (PRA95) [44 U.S.C. 3506(c)(2)(A)]. This process helps ensure that requested data can be provided in the desired format, reporting burdens are minimized, collection instruments are clearly understood, and the impact of collection requirements on respondents can be properly assessed. Currently the Office of Disability Employment Policy (ODEP) is soliciting comments concerning a proposed data collection for the following Employer Assistance Referral Network (EARN) survey: Survey of Employer Perspectives on the Employment of People with Disabilities. A copy of the proposed information collection request (ICR) can be obtained by contacting the office listed below in the address section of this notice.

DATES: Written comments must be submitted to the office shown in the address section below on or before May 4, 2007.

ADDRESSES: Richard Horne, U.S. Department of Labor, Office of Disability Employment Policy, 200 Constitution Avenue, NW., Suite S-1303, Washington, DC 20210. Telephone: (202) 693-7880. This is not a toll-free number.

FOR FURTHER INFORMATION CONTACT: Richard Horne, telephone: (202) 693-7880, e-mail: horne.richard@dol.gov.

SUPPLEMENTARY INFORMATION:

I. Background

The Employer Assistance Referral Network (EARN) is a nationwide service designed to provide employers with a technical, educational, and informational resource to simplify and encourage the hiring of qualified workers. Historically, disability programs required employers to do much of the work in the finding and hiring of people with disabilities. The Office of Disability Employment Policy (ODEP) of the Department of Labor has designed EARN to alleviate these barriers and do much of the work for the employer.

EARN is a service from the Office of Disability Employment Policy (ODEP) of the Department of Labor. This referral service links employers with providers who refer appropriate candidates with disabilities. The service is provided by means of a nationwide toll-free Call Center.

EARN is a service of the Office of Disability Employment Policy which was established pursuant to section 1(a)(1) of the Consolidated Appropriations Act, 2001 (Pub. L. 106-554) H.R. 5656, see Title I, “Departmental Management”) 29 U.S.C. 551 et seq.; 5 U.S.C. 301.

This service, and the data collection component is authorized pursuant to Pub. L. 106-554 which direct the Office of Disability Policy to provide initiatives such as EARN to “further the objective of eliminating employment barriers to the training and employment of people with disabilities”.

II. Desired Focus of Comments

The Department is particularly interested in comments which:

• Evaluate whether the collection of information is necessary for the proper performance of the functions of the agency, including whether the information will have practical utility;

• Evaluate the accuracy of the agency's estimate of the burden of the collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Action

This proposed collection ICR covers: The Survey of Employer Perspectives on the Employment of People With Disabilities. The survey will build on the findings of previous employer surveys, with an emphasis on current attitudes and practices of employers in 12 industry sectors, including some high growth industries as projected by the Bureau of Labor Statistics (BLS). ODEP is also interested in understanding employers' perspectives about disability employment by company size and the particular type of the employer (e.g. Executive, Human Resources, Equal Employment Opportunity, front line supervisor or manager). The survey will be conducted by telephone by a survey firm utilizing computer assisted telephone interviewing (CATI) capability. The survey will also solicit free-text comments from employers regarding the employment of people with disabilities.

Agency: Office of Disability Employment Policy.

Titles: Survey of Employer Perspectives in the Employment of People With Disabilities.

OMB Number: [1230-0NEW].

Frequency: On occasion.

Type of Response: Reporting.

Affected Public: Businesses or other for-profit; Not-for-profit institutions; Farms; Federal Government; and State, Local, or Tribal Government.

Number of Respondents: 3,600.

Survey | Estimated number of annual responses | Average response time (hours) | Estimated burden hours
Survey of Employer Perspectives on the Employment of People With Disabilities | 3,600 | .25 | 900
Total | 3,600 |  |

Total Burden Cost (capital/startup): $54,270.

Total Burden Cost (operating/maintaining): $575,254.

Description: The survey is designed to collect data on employers' perspectives on the employment of people with disabilities. ODEP plans to use the data to formulate targeted strategies and policies for increasing the employment of persons with disabilities. Various industry sectors provide opportunities to increase the employment of persons with disabilities. ODEP would like to be able to make comparisons among the industry sectors, including high growth industries. This survey entails conducting a 20-minute telephone survey of a representative sample of senior executives representing 12 industries by company size [small (5-249 employees), medium (250-499 employees), and large companies (500 or more employees)]. Westat will conduct interviews with 3,600 respondents. The survey will utilize a stratified random sample design. Larger companies will be over sampled, but all companies will be selected with equal probability within each stratum. The domains of the population of interest for the survey are based on company size classes within the major industry sectors. The size classes are small, medium, and large. The size classes will be based on the number of employees of the company. A uniform set of size class boundaries can be used for all industry sectors, e.g., small (5-249 employees), medium (250-499 employees), and large companies (500 or more employees). However, size distribution of the companies may vary considerably across the major industry sectors. Consequently, optimal size strata boundaries can differ across the industries substantially. There are a total of 36 (three size classes within 12 sectors) domains of interest.

The research team will describe the concerns employers have about the employment of persons with disabilities, and how ODEP's policies can help employers address those concerns. The survey will also provide information on steps employers have taken to recruit and hire persons with disabilities, as well as retain and promote those employees. The survey will inform disability employment policy and practice by comparing perspectives of senior executives in firms of varying size and industry sectors, including some of the fastest growing industries in the United States. In addition, the results will also inform the development of ODEP's programs and policies.

John R. Davey,
Director.

[FR Doc. E7-3648 Filed 3-2-07; 8:45 am]

BILLING CODE 4510-CX-P